DEPARTMENT OF DEFENSE

Department of the Army, Corps of Engineers

Intent To Prepare a Draft Feasibility Study and Environmental Impact Statement (EIS) for Navigational Improvements to San Juan Harbor in San Juan, Puerto Rico

AGENCY: U.S. Army Corps of Engineers, DOD.

ACTION: Notice of intent.

SUMMARY: The purpose of the feasibility study is to improve navigation in San Juan Harbor.

ADDRESSES: U.S. Army Corps of Engineers, Planning Division, Environmental Branch, P.O. Box 4970, Jacksonville, FL 32232-0019.

FOR FURTHER INFORMATION CONTACT: Mr. Paul DeMarco at (904) 232-1897 or email at paul.m.demarco@usace.army.mil.

SUPPLEMENTARY INFORMATION: 1. Description of the Proposed Action. Proposed navigational improvements to San Juan Harbor include deepening main channels up to minus 50 feet and widening main channels up to an additional 50 feet. Additional information is available on our Environmental Documents Web page at http://www.saj.usace.army.mil/About/DivisionsOffices/Planning/EnvironmentalBranch/EnvironmentalDocuments.aspx#SJH.

2. Reasonable Alternatives. Lesser increments of widening and deepening and other alternatives would also be evaluated. The dredged material is expected to be suitable for placement in the Ocean Dredged Material Disposal Site located a few miles from the harbor entrance. Some material may be suitable for placement in dredged holes and for other purposes. Other alternatives as identified during the scoping and plan formulation process will be considered.

3. Scoping Process:

a. Public and Agency Involvement. A scoping letter is being sent to agencies, commercial interests, and the public.

b. Issues to be Analyzed in Depth in the DEIS. Important issues expected include impacts to protected species, sea grass, hardgrounds, socio-economic factors, and any other factors that might be determined during the scoping and plan formulation process.

c. Possible Assignments for Input into the EIS Among Lead and Potential Cooperating Agencies.

—U.S. Fish and Wildlife Service: Input concerning listed species, critical habitat, and other fish and wildlife resources.

—National Marine Fisheries Service: Input concerning listed species, critical habitat, and essential fish habitat.

—U.S. Environmental Protection Agency: Input concerning ocean disposal.

—The U.S. Army Corps of Engineers is the Lead agency and, together with the non-federal sponsor (Puerto Rico Ports Authority) will assume responsibility for all other aspects of the EIS.

d. Other Environmental Review and Consultation Requirements. The proposed action is subject to the requirements of the Endangered Species Act, Marine Mammal Protection Act, Essential Fish Habitat requirements, National Historic Preservation Act, numerous other laws and executive orders, and any other requirements that might be identified during the scoping and plan formulation process.

4. Scoping Meeting. A public scoping meeting will be held on November 5, 2015, at 9:00 a.m. in Room 101 of the Puerto Rico Convention Center, 100 Convention Boulevard, San Juan, Puerto Rico.

5. Date the DEIS Made Available to the Public. Depending on the issues, alternatives, investigations, and other requirements identified during the scoping and plan formulation process; the Draft EIS should be available by September 30, 2017.

Dated: September 29, 2015.
Eric P. Summa,
Chief, Environmental Branch.

[FR Doc. 2015-25574 Filed 10-6-15; 8:45 am]

BILLING CODE 3720-58-P